DEPARTMENT OF ENERGY

Federal Energy Regulatory Commission

Combined Notice of Filings #1

Take notice that the Commission received the following exempt wholesale generator filings:

Docket Numbers: EG20-105-000.

Applicants: RE Mustang Two Barbaro, LLC.

Description: Self-Certification of EWG Status of RE Mustang Two Barbaro, LLC.

Filed Date: 3/23/20.

Accession Number: 20200323-5150.

Comments Due: 5 p.m. ET 4/13/20.

Docket Numbers: EG20-106-000.

Applicants: RE Mustang Two Whirlaway, LLC.

Description: Self-Certification of EWG Status of RE Mustang Two Whirlaway, LLC.

Filed Date: 3/23/20.

Accession Number: 20200323-5152.

Comments Due: 5 p.m. ET 4/13/20.

Take notice that the Commission received the following electric rate filings:

Docket Numbers: ER18-1863-004; ER10-1857-012; ER10-1932-012; ER10-1935-012; ER10-1973-011; ER10-1974-022.

Applicants: Coolidge Solar I, LLC, FPL Energy Cape, LLC, FPL Energy Wyman, LLC, FPL Energy Wyman IV, LLC, NextEra Energy Seabrook, LLC, Northeast Energy Associates, A Limited Partnership.

Description: Notification of Change in Status of the NextEra Resources Entities.

Filed Date: 3/20/20.

Accession Number: 20200320-5273.

Comments Due: 5 p.m. ET 4/10/20.

Docket Numbers: ER19-158-004; ER10-1975-024; ER10-2421-002; ER10-2616-016; ER10-2617-009; ER10-2619-010; ER10-2674-013; ER10-2677-013; ER11-2457-002; ER11-4266-015; ER11-4400-013; ER12-192-004 ER12-1769-005; ER12-2250-003; ER12-2251-003; ER12-2252-004; ER12-2253-003; ER12-75-006; ER13-2475-011; ER14-1569-009; ER14-2245-003; ER14-883-010; ER15-1596-009; ER15-1598-006; ER15-1599-009; ER15-1600-005; ER15-1602-005; ER15-1605-005; ER15-1607-005; ER15-1608-005; ER19-102-002; ER19-2803-001; ER19-2806-001; ER19-2807-001; ER19-2809-001; ER19-2810-001; ER19-2811-001

Applicants: Ambit Northeast, LLC, TriEagle Energy, LP, Richland-Stryker Generation LLC, Public Power (PA), LLC, Public Power, LLC, Public Power & Utility of NY, Inc., Public Power & Utility of Maryland, LLC, Pleasants Energy, LLC, Ontelaunee Power Operating Company, LLC, North Jersey Energy Associates, A Limited Partnership, Massachusetts Gas & Electric, Inc., Illinois Power Marketing Company, Everyday Energy, LLC, Everyday Energy NJ, LLC, Energy Services Providers, Inc., Energy Rewards, LLC, Dynegy Zimmer, LLC, Dynegy Washington II, LLC, Dynegy Power Marketing, LLC, Dynegy Miami Fort, LLC, Dynegy Marketing and Trade, LLC, Dynegy Kendall Energy, LLC, Calumet Energy Team, LLC, Cincinnati Bell Energy LLC, Connecticut Gas & Electric, Inc., Dynegy Commercial Asset Management, LLC, Dynegy Fayette II, LLC, Dynegy Dicks Creek, LLC, Dynegy Energy Services (East), LLC, Dynegy Energy Services, LLC, Dynegy Hanging Rock II, LLC, Kincaid Generation, L.L.C., Luminant Energy Company LLC, Viridian Energy NY, LLC, Viridian Energy PA, LLC, Viridian Energy, LLC, Liberty Electric Power, LLC.

Description: Notice of Change in Status of the Vistra MBR Sellers.

Filed Date: 3/19/20.

Accession Number: 20200319-5171.

Comments Due: 5 p.m. ET 4/9/20.

Docket Numbers: ER19-1409-002.

Applicants: Birdsboro Power LLC.

Description: Report Filing: Refund Report to be effective N/A.

Filed Date: 3/20/20.

Accession Number: 20200320-5119.

Comments Due: 5 p.m. ET 4/10/20.

Docket Numbers: ER19-1943-002.

Applicants: NorthWestern Corporation.

Description: Compliance filing: Order Nos. 845 & 845—A Second Compliance Filing to be effective 3/25/2020.

Filed Date: 3/23/20.

Accession Number: 20200323-5147.

Comments Due: 5 p.m. ET 4/13/20.

Docket Numbers: ER20-732-001.

Applicants: California Independent System Operator Corporation.

Description: Tariff Amendment: 2020-03-20 Deliverability Assessment Initiative—Deficiency Letter Response to be effective 3/3/2020.

Filed Date: 3/20/20.

Accession Number: 20200320-5159.

Comments Due: 5 p.m. ET 4/10/20.

Docket Numbers: ER20-1011-001.

Applicants: PJM Interconnection, L.L.C.

Description: Tariff Amendment: Errata to Service Agreement No. 1131, Non-Queue #NQ122 to be effective 6/2/2015.

Filed Date: 3/20/20.

Accession Number: 20200320-5151.

Comments Due: 5 p.m. ET 4/10/20.

Docket Numbers: ER20-1365-000.

Applicants: Dominion Energy South Carolina, Inc.

Description: Compliance filing: Order 845 Supplemental Compliance Filing to be effective 6/15/2019.

Filed Date: 3/23/20.

Accession Number: 20200323-5094.

Comments Due: 5 p.m. ET 4/13/20.

Docket Numbers: ER20-1366-000.

Applicants: AEP Texas Inc.

Description: § 205(d) Rate Filing: AEPTX-Southwest Texas EC-Golden Spread EC Interconnection Agreement 5th Amended to be effective 3/17/2020.

Filed Date: 3/23/20.

Accession Number: 20200323-5116.

Comments Due: 5 p.m. ET 4/13/20.

Docket Numbers: ER20-1367-000.

Applicants: PJM Interconnection, L.L.C.

Description: § 205(d) Rate Filing: First Revised ISA, SA No. 4311; Queue No. AE1-035 to be effective 2/24/2020.

Filed Date: 3/23/20.

Accession Number: 20200323-5130.

Comments Due: 5 p.m. ET 4/13/20.

Docket Numbers: ER20-1368-000.

Applicants: AEP Texas Inc.

Description: § 205(d) Rate Filing: Monte Alto PDA Cancellation to be effective 5/22/2020.

Filed Date: 3/23/20.

Accession Number: 20200323-5144.

Comments Due: 5 p.m. ET 4/13/20.

Docket Numbers: ER20-1369-000.

Applicants: Ohio Power Company, PJM Interconnection, L.L.C.

Description: § 205(d) Rate Filing: Ohio Power Company submits Facilities Agreement re: ILDSA SA No. 1336 to be effective 5/22/2020.

Filed Date: 3/23/20.

Accession Number: 20200323-5149.

Comments Due: 5 p.m. ET 4/13/20.

Take notice that the Commission received the following electric reliability filings:

Docket Numbers: RD20-5-000.

Applicants: North American Electric Reliability Corp.

Description: Application of the North American Electric Reliability Corporation and Texas Reliability Entity, Inc. for approval of proposed regional Reliability Standard BAL-001-TRE-2.

Filed Date: 3/11/20.

Accession Number: 20200311-5287.

Comments Due: 5 p.m. ET 4/16/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 23, 2020.
Nathaniel J. Davis, Sr.,
Deputy Secretary.

[FR Doc. 2020-06416 Filed 3-26-20; 8:45 am]

BILLING CODE 6717-01-P